DEPARTMENT OF AGRICULTURE

Submission for OMB Review; Comment Request

September 19, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725—17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received by October 24, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: 7 CFR 1980-D, Rural Housing Loans.

OMB Control Number: 0575-0078.

Summary of Collection: The Rural Housing Service (RHS) is a credit agency for Rural Development for the U.S. Department of Agriculture. Section 517(d) of Title V of the Housing Act of 1949, as amended, (Act) provides the authority for the Secretary of Agriculture to issue loan guarantees for the acquisition of new or existing dwellings and related facilities to provide decent, safe, and sanitary living conditions and other structures in rural areas. The Act also authorizes the Secretary to pay the holder of a guaranteed loan the difference between the rate of interest paid by the borrower and the market rate of interest.

Congress passed Public Law 111-212, Supplemental Disaster Relief and Summer Jobs Act of 2010 which authorized the Agency to assess an annual fee in an effort to maintain a budget-neutral loan program. Effective in fiscal year 2011, the Agency began assessing an annual fee against newly closed guaranteed loans. The program introduced an electronic method for lenders to pay the annual fee through the Guaranteed Annual Fee (GAF) system. This new Web-based system allows loan servicers to authorize pre-authorized debit (PAD) payments as well as review annual fee advance notice, billing, and payment reconciliation details for guaranteed loans that they service.

Need and Use of the Information: Information collected is used to determine if borrowers qualify for all assistance. Eligibility for this program includes very low, low, and moderate-income families or persons whose income does not exceed 115 percent of the median income for the area. The information requested by RHS includes borrower financial information such as household income, assets and liabilities, and monthly expenses. Information requested on lenders is required to ensure lenders are eligible to participate in the GRH program and are in compliance with OMB Circular A-129. If the information collected was less frequent or not at all, the agency could not effectively monitor lenders and assess the program.

Description of Respondents: Individuals or households; Business or other for-profit.

Number of Respondents: 154,197.

Frequency of Responses: Reporting: Monthly; On occasion.

Total Burden Hours: 880,796.

Charlene Parker,
Departmental Information Collection Clearance Officer.

[FR Doc. 2013-23241 Filed 9-23-13; 8:45 am]

BILLING CODE 3410-XV-P